NUCLEAR REGULATORY COMMISSION

[NRC-2010-0059; Docket Nos. 50-275 and 50-323]

Pacific Gas and Electric Company, Diablo Canyon Power Plant, Unit 1 and 2; Exemption

1.0 Background

Pacific Gas and Electric Company (PG&E, the licensee) is the holder of Facility Operating License Nos. DPR-80 and DPR-82, which authorize operation of the Diablo Canyon Power Plant, Unit 1 and 2 (DCPP). The licenses provide, among other things, that the facility is subject to all rules, regulations, and orders of the U.S. Nuclear Regulatory Commission (NRC, the Commission) now or hereafter in effect.

The facility consists of two pressurized-water reactors located in San Luis Obispo County, California.

2.0 Request/Action

Title 10 of the Code of Federal Regulations (10 CFR) part 73, “Physical protection of plants and materials,” Section 73.55, “Requirements for physical protection of licensed activities in nuclear power reactors against radiological sabotage,” published March 27, 2009, effective May 26, 2009, with a full implementation date of March 31, 2010, requires licensees to protect, with high assurance, against radiological sabotage by designing and implementing comprehensive site security programs. The amendments to 10 CFR 73.55 published in the Federal Register on March 27, 2009 (74 FR 13926), establish and update generically applicable security requirements similar to those previously imposed by Commission orders issued after the terrorist attacks on September 11, 2001, and implemented by the licensees. In addition, the amendments to 10 CFR 73.55 include additional requirements to further enhance site security based upon insights gained from implementation of the post September 11, 2001, security orders. It is from one of these additional requirements that PG&E now seeks an exemption from the implementation date. All other physical security requirements established by this recent rulemaking have been implemented by the licensee.

By letter dated April 13, 2011, the licensee requested an exemption in accordance with 10 CFR 73.5, “Specific exemptions.” The licensee submitted two letters on April 13, 2011, a version containing sensitive unclassified non-safeguards information (security-related) and a redacted version, which is publicly available in the Agencywide Documents Access and Management System (ADAMS) under Accession No. ML11112A022. By letter dated March 2, 2010 (ADAMS Accession No. ML100210207), the NRC granted a previous exemption to PG&E for specific items subject to the revised rule in 10 CFR 73.55, allowing the implementation to be deferred until June 30, 2011. The licensee has requested an additional exemption from the current implementation date established in the prior exemption, based on a significant change in scope of the project for one specific item needed to meet the requirements of the new rule. Specifically, the request is to extend the compliance date from the June 30, 2011, deadline to March 31, 2012, for one item. Granting this exemption for extending the implementation date for the one remaining item would allow the licensee to complete the modifications for a more conservative approach for achieving full compliance.

3.0 Discussion of Part 73 Schedule Exemption From the June 30, 2011, Full Implementation Date

Pursuant to 10 CFR 73.55(a)(1), “By March 31, 2010, each nuclear power reactor licensee, licensed under 10 CFR part 50, shall implement the requirements of this section through its Commission-approved Physical Security Plan, Training and Qualification Plan, Safeguards Contingency Plan, and Cyber Security Plan referred to collectively hereafter as `security plans.'” Pursuant to 10 CFR 73.5, the Commission may, upon application by any interested person or upon its own initiative, grant exemptions from the requirements of 10 CFR part 73 when the exemptions are authorized by law, and will not endanger life or property or the common defense and security, and are otherwise in the public interest.

NRC approval of this exemption, as noted above, will allow an extension from June 30, 2011, until March 31, 2012, for the implementation date for one specific item in two specified areas of the new rule. As stated above, 10 CFR 73.5 allows the NRC to grant exemptions from the requirements of 10 CFR 73. The NRC staff has determined that granting of the licensee's proposed exemption will not result in a violation of the Atomic Energy Act of 1954, as amended, or the Commission's regulations. Therefore, the exemption is authorized by law.

In the draft final rule provided to the Commission, the NRC staff proposed that the requirements of the new regulation be met within 180 days. The Commission directed a change from 180 days to approximately 1 year for licensees to fully implement the new requirements. This change was incorporated into the final rule. From this, it is clear that the Commission wanted to provide a reasonable timeframe for licensees to achieve full compliance.

As noted in the final rule, the Commission also anticipated that licensees would have to conduct site specific analyses to determine what changes were necessary to implement the rule's requirements, and that changes could be accomplished through a variety of licensing mechanisms, including exemptions. Since issuance of the final rule, the Commission has rejected a generic industry request to extend the rule's compliance date for all operating nuclear power plants, but noted that the Commission's regulations provide mechanisms for individual licensees, with good cause, to apply for relief from the compliance date (Reference: letter dated June 4, 2009, from R. W. Borchardt, NRC, to M. S. Fertel, Nuclear Energy Institute). The licensee's request for an exemption is therefore consistent with the approach set forth by the Commission and discussed in the letter dated June 4, 2009.

DCPP Schedule Exemption Request

The licensee provided detailed information in Enclosure 1 of its letter dated April 13, 2011, requesting an exemption. Enclosure 1 describes a comprehensive plan for the implementation of one item regarding the construction, testing, and turnover of the new equipment to enhance the security capabilities at the DCPP site and provides a timeline for achieving full compliance with the new regulation. Enclosure 1 of the letter dated April 13, 2011, contains security-related information regarding the site security plan, details of the specific requirements of the regulation and why the site cannot be in compliance by the June 30, 2011, deadline, the required changes to the site's security configuration, and a timeline with critical path activities that will bring the licensee into full compliance by March 31, 2012. The timeline provides dates indicating when construction will begin on various phases of the project (i.e., buildings, and fences) and critical equipment will be installed, tested and become operational.

As described in its submittal dated April 13, 2011, the licensee stated that all parts of the new 10 CFR part 73 security measures will be implemented by June 30, 2011, except for the one specified item, for which the current security system will be maintained until the licensee is in full compliance. This will continue to provide acceptable physical protection of the DCPP.

4.0 Conclusion for Part 73 Schedule Exemption Request

The NRC staff has reviewed the licensee's submittal and concludes that the licensee has provided adequate justification for its request for an extension of the compliance date to March 31, 2012 with regard to one item for two specified requirements of 10 CFR 73.55.

Accordingly, the Commission has determined that pursuant to 10 CFR 73.5, “Specific exemptions,” an exemption from the June 30, 2011, compliance date is authorized by law and will not endanger life or property or the common defense and security, and is otherwise in the public interest.

The NRC staff has determined that the long-term benefits that will be realized when the DCPP security modifications are complete justifies exceeding the full compliance date with regard to the specified requirements of 10 CFR 73.55. Therefore, the NRC concludes that the licensee's actions are in the best interest of protecting the public health and safety through the security changes that will result from granting this exemption.

As per the licensee's request, and consistent with the NRC's regulatory authority to grant an exemption from the June 30, 2011, deadline for the one item specified in Enclosure 1 of the PG&E letter dated April 13, 2011, the licensee is required to be in full compliance by March 31, 2012. In achieving compliance, the licensee is reminded that it is responsible for determining the appropriate licensing mechanism (i.e., 10 CFR 50.54(p) or 10 CFR 50.90) for incorporation of all necessary changes to its security plans.

Pursuant to 10 CFR 51.32, “Finding of no significant impact,” the Commission has previously determined that the granting of this exemption will not have a significant effect on the quality of the human environment (January 3, 2011; 76 FR 187).

This exemption is effective upon issuance.

Dated at Rockville, Maryland, this 17th day of June 2011.
For the Nuclear Regulatory Commission.
Joseph G. Giitter,
Director, Division of Operating Reactor Licensing, Office of Nuclear Reactor Regulation.

[FR Doc. 2011-16196 Filed 6-27-11; 8:45 am]

BILLING CODE 7590-01-P